DEPARTMENT OF AGRICULTURE

Forest Service

Final Environmental Impact Statement for the South Platte Wild and Scenic River Study, Pike and San Isabel National Forests, Cimarron and Comanche National Grasslands (PSICC), Douglas, Jefferson, Park and Teller Counties, CO

AGENCY: Forest Service, USDA.

ACTION: Notice of Availability.

SUMMARY: Under the National Environmental Policy Act (Pub. L 91-190) and the National Forest Management Act (Pub. L. 94-588), the Forest Service announces the availability of the Final Environmental Impact Statement for the South Platte Wild and Scenic River Study. The FEIS analyzes the direct, indirect and cumulative impacts of the alternatives analyzed in the study. A Record of Decision is not being issued at this time in order to receive comments on new information not previously disclosed, namely, (1) the proposed amendment to the Forest Plan, and (2) the Preferred Alternative.

DATES: Comments must be received by April 2, 2004.

ADDRESSES: Send written comments to: Robert J. Leaverton, Forest Supervisor, Attn: South Platte Wild and Scenic River Study, Pike and San Isabel National Forests, 2840 Kachina Drive, Pueblo, Colorado 81008.

FOR FURTHER INFORMATION CONTACT: John Hill, Planning Staff Officer, at above address or by phone at (719)-553-1414, or by e-mail at jjhill01@fs.fed.us.

SUPPLEMENTARY INFORMATION: A portion of the river was studied in the early 1980's during preparation of PSICC's Forest Plan. That portion was between Cheesman and Elevemile Reservoirs and was found eligible for inclusion in the National Wild and Scenic River System, but a decision was not made regarding the river's suitability (i.e., whether it would be an appropriate addition to the System). The study of other portions of the rivers was postponed due to the pending proposal to construct Two Forks Reservoir, which was eventually denied by the Environmental Protection Agency in the 1990's.

The current study began in the early 1990's. It included the previous study area plus the river below Cheesman Reservoir to Stontia Springs Reservoir and the North Fork. Previous documents in this study include the Draft Legislative EIS (April 1997) and a Supplemental Draft Legislative EIS (March 2000). These documents were labeled “legislative” under the presumption that a recommendation would be made to Congress to designate some or all of the eligible river segments in the study. However, under the Final EIS's Preferred Alternative, no decisions on suitability is contemplated. Therefore no recommendation to Congress would be forthcoming and accordingly the modifier “legislative” is not employed.

The Preferred Alternative includes a proposed amendment to the PSICC Forest Plan. An amendment had been contemplated in the Supplemental Draft EIS, but only as an item that would be consistent with whatever alternative was selected for implementation. Its details had not been developed in that document. However, public response indicated a need to review the amendment prior to its being selected in a decision document. In light of this, the Record of Decision is being postponed to provide an opportunity for comment on the proposed amendment. Comments are due April 2, 2004.

Copies of the Final EIS are being provided to entities known to be interested in the study. For others who are interested in reading the document, it has been posted on the web at http://www.fs.fed.us/r2/psicc/projects/wsr/.

Dated: January 21, 2004.
Robert J. Leaverton,
Forest Supervisor, Pike and San Isabel National Forests, Cimarron and Comanche National Grasslands.

[FR Doc. 04-1619 Filed 1-26-04; 8:45 am]

BILLING CODE 3410-ES-M